DEPARTMENT OF ENERGY

Federal Energy Regulatory Commission

[Docket No. RP01-555-000]

Sea Robin Pipeline Company; Notice of Tariff Filing and Annual Charge Adjustment

September 6, 2001.

Take notice that on August 31, 2001, Sea Robin Pipeline Company (Sea Robin) tendered for filing as part of its FERC Gas Tariff, First Revised Volume No. 1, the following revised tariff sheets proposed to become effective October 1, 2001:

Seventh Revised Sheet No. 7

Third Revised Sheet No. 7a

Seventh Revised Sheet No. 8

Sea Robin states the filing is made in accordance with Section 19 (Annual Charge Adjustment Clause) of the General Terms and Conditions in its FERC Gas Tariff, First Revised Volume No. 1. These revised tariff sheets reflect the surcharge attributable to fiscal year 2001 program costs of $0.0021 per Dt of natural gas transported.

Sea Robin states that copies of this filing are being served on all affected customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed on or before September 13, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22892 Filed 9-11-01; 8:45 am]

BILLING CODE 6717-01-P